DEPARTMENT OF AGRICULTURE

Rural Utilities Service

Notice of Funding Availability and Grant Application Deadlines

AGENCY: Rural Utilities Service, USDA.

ACTION: Notice of funds availability; correction.

SUMMARY: The Rural Utilities Service (RUS), an agency of the United States Department of Agriculture (USDA), published a notice of funds availability concerning the Distance Learning and Telemedicine (DLT) Grant Program for the Fiscal Year (FY) 2014 competition. The document contained incorrect information with regard to the deadline for electronic submissions.

FOR FURTHER INFORMATION CONTACT: Sam Morgan, Program Management Analyst, Advanced Services Division, Telecommunications Program, Rural Utilities Service, email: sam.morgan@wdc.usda.gov, telephone: (202) 690-4493, fax: (202) 720-1051. Additional point of contact: Norberto Esteves, Acting Director, Advanced Services Division at norberto.esteves@wdc.usda.gov or at same phone numbers previously listed.

Correction

In the Federal Register of May 22, 2014, in FR Doc. 2014-11700, on page 29403, in the second column, under the “F. Deadline caption”, correct “2.” to read:

2. Electronic grant applications must be received by July 7, 2014 to be eligible for FY 2014 funding. Late or incomplete applications will not be eligible for FY 2014 grant funding.

Dated: May 23, 2014.
John Charles Padalino,
Administrator, Rural Utilities Service.

[FR Doc. 2014-12548 Filed 5-29-14; 8:45 am]

BILLING CODE P